NATIONAL FOUNDATION ON THE ARTS AND THE HUMANITIES

Institute of Museum and Library Services

Submission for OMB Review, Comment Request, Proposed Collection: Native American Library Services Enhancement Grants Notice of Funding Opportunity

AGENCY: Institute of Museum and Library Services, National Foundation on the Arts and the Humanities.

ACTION: Submission for OMB Review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the renewal of the clearance of the Notice of Funding Opportunity for the Native American Library Services Enhancement Grants Program. A copy of the proposed information collection request can be obtained by contacting the individual listed below in the FOR FURTHER INFORMATION CONTACT section of this Notice.

DATES: Written comments must be submitted to the office listed in the ADDRESSES section below on or before December 3, 2023.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Jennifer Himmelreich, Senior Program Officer, Office of Library Services, Institute of Museum and Library Services, 955 L'Enfant Plaza North SW, Suite 4000, Washington, DC 20024-2135. Ms. Himmelreich can be reached by telephone at 202-653-4797, or by email at jhimmelreich@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant-making, research, and policy development. To learn more, visit www.imls.gov.

Current Actions: This Notice proposes the renewal of the clearance of the Notice of Funding Opportunity for IMLS's Native American Library Services Enhancement Grants Program. The purpose of the program is to assist Native American tribes in improving core library services for their communities. IMLS recognizes that information needs and approaches to meeting them are evolving at an unprecedented pace in all communities, and to operate within this environment effectively for the benefit of their users, libraries must be able to both strengthen existing services and move quickly to adopt new and emerging technologies.

The goals for this program are to improve digital services to support needs for education, workforce development, economic and business development, health information, critical thinking skills, and digital literacy skills; to improve educational programs related to specific topics and content areas of interest to library patrons and community-based users; and to enhance the preservation and revitalization of Native American cultures and languages.

The 60-day Notice was published in the Federal Register on August 22, 2023 (88 FR 57134-57135). The agency received no comments under this Notice.

Agency: Institute of Museum and Library Services.

Title: Native American Library Services Enhancement Grants Program Notice of Funding Opportunity.

OMB Control Number: 3137-0110.

Agency Number: 3137.

Affected Public: Federally Recognized Indian Tribes.

Total Number of Respondents: 40.

Frequency of Response: Once per request.

Average Hours per Response: 35 hours.

Total Burden Hours: 1,400 hours.

Total Annualized Capital/Startup Costs: n/a.

Total Annual Cost Burden: $40,992.

Total Annual Federal Costs: $1,744.

Dated: October 31, 2023.
Suzanne Mbollo,
Grants Management Specialist, Institute of Museum and Library Services.

[FR Doc. 2023-24419 Filed 11-3-23; 8:45 am]

BILLING CODE 7036-01-P